DEPARTMENT OF TRANSPORTATION

Federal Aviation Administration

14 CFR Part 39

[Docket No. 2002-SW-15-AD; Amendment 39-12817; AD 2002-14-17]

RIN 2120-AA64

Airworthiness Directives; Eurocopter Deutschland GmbH Model EC135 Helicopters

AGENCY: Federal Aviation Administration, DOT.

ACTION: Final rule; request for comments.

SUMMARY: This amendment supersedes an existing airworthiness directive (AD), applicable to Eurocopter Deutschland GmbH (ECD) (Eurocopter) Model EC135 helicopters, that currently requires initial and repetitive visual inspections and a one-time dye-penetrant inspection of a certain main rotor hub shaft (shaft) for cracks, and replacement of any cracked shafts. This amendment requires the same actions as the existing AD, but corrects the shaft part number (P/N) in the current AD, includes additional P/N's, increases the area of inspection from a 40mm area to a 50mm area of the shaft, and provides an option for using either a visual or dye-penetrant inspection to satisfy the repetitive inspection requirement. This amendment is prompted by the need to correct the shaft part number and increase the area of inspection, as well as add additional affected shaft P/N's. The actions specified by this AD are intended to detect fatigue cracks in the shaft that could lead to shaft failure and subsequent loss of control of the helicopter.

DATES: Effective July 26, 2002.

Comments for inclusion in the Rules Docket must be received on or before September 9, 2002.

ADDRESSES: Submit comments in triplicate to the Federal Aviation Administration (FAA), Office of the Regional Counsel, Southwest Region, Attention: Rules Docket No. 2002-SW-15-AD, 2601 Meacham Blvd., Room 663, Fort Worth, Texas 76137. You may also send comments electronically to the Rules Docket at the following address: 9-asw-adcomments@faa.gov.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: On July 1, 1999, the FAA published emergency AD 99-12-01, issued on May 27, 1999, as Amendment 39-11217 (64 FR 35559), to require initial and repetitive visual inspections and a one-time dye-penetrant inspection of the shaft for cracks, and replacing the shaft if a crack is found. That action was prompted by the discovery of fatigue cracks on the shaft of this model helicopter. That condition, if not corrected, could result in shaft failure and subsequent loss of control of the helicopter.

The Luftfahrt-Bundesamt (LBA), which is the airworthiness authority for the Federal Republic of Germany, notified the FAA that an unsafe condition may exist on Eurocopter Model EC135 helicopters. The LBA advises that, following a recent test run, cracks have been found on a shaft.

Since the issuance of AD 99-12-01, the manufacturer has released Eurocopter Alert Service Bulletin EC135-62A-004, Revision 3, dated November 10, 2000, that increases the area of the shaft to be inspected from 40mm to 50mm. The LBA classified this alert service bulletin as mandatory and issued AD 1999-185/4, dated October 18, 2001, to ensure the continued airworthiness of these helicopters in the Federal Republic of Germany. That AD requires initial and repetitive visual inspections or dye-penetrant inspections, and replacing the shaft before the next flight if any crack is found.

The FAA has determined that AD 99-12-01 contained an error in the applicable shaft P/N-P/N L623M100S 101 should have been stated as P/N L623M1003 101. Also, the FAA has determined that additional shaft P/N's should have been included in the AD and that operators should have an option with regard to the repetitive inspections of either conducting a visual inspection at intervals not to exceed 15 hours time-in-service (TIS) or a dye-penetrant inspection at intervals not to exceed 100 hours TIS.

This helicopter model is manufactured in the Federal Republic of Germany and is type certificated for operation in the United States under the provisions of 14 CFR 21.29 and the applicable bilateral agreement. Pursuant to the applicable bilateral agreement, the LBA has kept the FAA informed of the situation described above. The FAA has examined the findings of the LBA, reviewed all available information, and determined that AD action is necessary for products of this type design that are certificated for operation in the United States.

Since an unsafe condition has been identified that is likely to exist or develop on other Eurocopter Model EC135 helicopters of the same type design, this AD supersedes AD 99-12-01 to require an initial visual inspection, and either repetitive visual inspections or repetitive dye-penetrant inspections of the shaft for a crack, and replacement of any cracked shafts. The short compliance time involved is required because the previously described critical unsafe condition can adversely affect the structural integrity and controllability of the helicopter. Therefore, an initial visual inspection of the shaft for cracks and replacement of any cracked shaft is required before further flight, and this AD must be issued immediately.

Since a situation exists that requires the immediate adoption of this regulation, it is found that notice and opportunity for prior public comment hereon are impracticable, and that good cause exists for making this amendment effective in less than 30 days.

The FAA estimates that 40 helicopters will be affected by this AD, that it will take approximately 0.5 work hours to accomplish the visual inspections, 1 work hour per helicopter to accomplish the dye-penetrant inspection, and 16 work hours to replace a shaft, if necessary; and that the average labor rate is $60 per work hour. Required parts will cost approximately $39,000 per helicopter. Based on these figures, the total cost impact of the AD on U.S. operators is estimated to be $561,120, assuming one visual inspection and 200 dye-penetrant inspections per helicopter and that only 2 shafts need replacing.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket No. 2002-SW-15-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11217 (64 FR 35559, July 1, 1999), and by adding a new airworthiness directive (AD), Amendment 39-12817, to read as follows:

AD 2002-14-17 Eurocopter Deutschland GMBH: Amendment 39-12817. Docket No. 2002-SW-15-AD. Supersedes AD 99-12-01, Amendment 39-11217, Docket No. 99-SW-38-AD.

Applicability: Model EC135 helicopters, with main rotor hub shaft (shaft) assemblies, part numbers L623M1003 101, L623M1003 102, L623M1003 103, L623M1003 104, L623M1003 105, L623M1003 106, or L623F1003 107, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (f) of this AD. The request should include an assessment of the effect of the modification, alteration, or repair on the unsafe condition addressed by this AD; and if the unsafe condition has not been eliminated, the request should include specific proposed actions to address it.

Compliance: Required as indicated, unless accomplished previously.

To detect fatigue cracks in the shaft that could lead to shaft failure and subsequent loss of control of the helicopter, accomplish the following:

(a) Before further flight, clean and visually inspect the shaft for cracks in the area as shown in the following Figure 1:

BILLING CODE 4910-13-C

(b) Within 10 hours time-in-service (TIS) after accomplishing the visual inspection required by paragraph (a) of this AD, clean and dye-penetrant inspect the shaft for cracks in the area as shown in Figure 1 of this AD.

(c) Thereafter, visually inspect the shaft for cracks in accordance with paragraph (a) of this AD at intervals not to exceed 15 hours TIS, or dye-penetrant inspect the shaft for cracks in accordance with paragraph (b) of this AD at intervals not to exceed 100 hours TIS.

Note 2: Eurocopter Alert Service Bulletin EC135-62A-004, Revision 3, dated November 10, 2000, pertains to the subject of this AD.

(d) If a crack is discovered during any shaft inspections, remove the shaft and replace it with an airworthy shaft.

(e) Report any cracked shaft within 5 calendar days to the Rotorcraft Standards Staff, Rotorcraft Directorate, Fort Worth, Texas 76193-0110, telephone (817) 222-5116, fax (817) 222-5961. Information collection requirements contained in this AD have been approved by the Office of Management and Budget (OMB) under the provisions of the Paperwork Reduction Act of 1980 (44 U.S.C. 3501 et seq.) and have been assigned OMB Control Number 2120-0056.

(f) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(g) Special flight permits may be issued in accordance with 14 CFR 21.197 and 21.199 to operate the helicopter to a location where the requirements of this AD can be accomplished.

(h) This amendment becomes effective on July 26, 2002.

Note 4: The subject of this AD is addressed in Luftfahrt-Bundesamt (Federal Republic of Germany) AD 1999-185/4, dated October 18, 2001.

Issued in Fort Worth, Texas, on July 3, 2002.
David A. Downey,
Manager, Rotorcraft Directorate, Aircraft Certification Service.

[FR Doc. 02-17300 Filed 7-10-02; 8:45 am]

BILLING CODE 4910-13-P